DEPARTMENT OF TRANSPORTATION

Federal Aviation Administration

14 CFR Part 39

[Docket No. FAA-2006-24640; Directorate Identifier 2006-CE-26-AD; Amendment 39-14755; AD 2006-18-16]

RIN 2120-AA64

Airworthiness Directives; Raytheon Aircraft Company Model 390 Airplanes

AGENCY: Federal Aviation Administration (FAA), Department of Transportation (DOT).

ACTION: Final rule.

SUMMARY: We are adopting a new airworthiness directive (AD) for certain Raytheon Aircraft Company Model 390 airplanes. This AD requires you to inspect the spigot bearing, part number (P/N) MS14104-16, for the proper position in the spigot fitting assembly and to install the wing spigot bearing retainer kit, P/N 390-4304-0001. We are issuing this AD to detect spigot bearings that are not positioned flush with the fitting assembly. This condition could result in the spigot bearing becoming disengaged from the fitting assembly, which could cause motion between the wing and the fuselage and degrade the structural integrity of the wing attachment to the fuselage. This could lead to wing separation and loss of control of the airplane.

DATES: This AD becomes effective on October 13, 2006.

As of October 13, 2006, the Director of the Federal Register approved the incorporation by reference of certain publications listed in the regulation.

ADDRESSES: For service information identified in this AD, contact Raytheon Aircraft Company, 9709 East Central, Wichita, Kansas 67201.

To view the AD docket, go to the Docket Management Facility; U.S. Department of Transportation, 400 Seventh Street, SW., Nassif Building, Room PL-401, Washington, DC 20590-001 or on the Internet at http://dms.dot.gov. The docket number is FAA-2006-24640; Directorate Identifier 2006-CE-26-AD.

FOR FURTHER INFORMATION CONTACT: David Ostrodka, Senior Aerospace Engineer, Wichita Aircraft Certification Office, Airframe and Services Branch, ACE-118W, 1801 Airport Road, Wichita, Kansas 67209; telephone: (316) 946-4129; facsimile: (316) 946-4107; e-mail: david.ostrodka@faa.gov.

SUPPLEMENTARY INFORMATION:

Discussion

On May 17, 2006, we issued a proposal to amend part 39 of the Federal Aviation Regulations (14 CFR part 39) to include an AD that would apply to certain Raytheon Aircraft Company Model 390 airplanes. This proposal was published in the Federal Register as a notice of proposed rulemaking (NPRM) on May 23, 2006 (71 FR 29595). The NPRM proposed to require you to inspect the spigot bearing, P/N MS14104-16, for the proper position in the spigot fitting assembly and to install the wing spigot bearing retainer kit, P/N 390-4304-0001.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 78 airplanes in the U.S. registry.

We estimate the following costs to do the installation of the spigot bearing retainer kit, P/N 390-4304-0001:

Labor cost | Parts cost | Total cost per airplane | Total cost on U.S. operators
8 work-hours × $80 per hour = $640 | $1,442 | $2,082 | $162,396

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-24640; Directorate Identifier 2006-CE-26-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2006-18-16 Raytheon Aircraft Company: Amendment 39-14755; Docket No. FAA-2006-24640; Directorate Identifier 2006-CE-26-AD.

Effective Date

(a) This AD becomes effective on October 13, 2006.

Affected ADs

(b) None.

Applicability

(c) This AD affects Model 390 airplanes, serial numbers RB-1 and RB-4 through RB-139, that are certificated in any category.

Unsafe Condition

(d) This AD is the result of two reports of the spigot bearing not being positioned flush with the fitting assembly, but protruding outside of the fitting assembly. The actions specified in this AD are intended to detect spigot bearings that are not positioned flush with the fitting assembly. This condition could result in the spigot bearing becoming disengaged from the fitting assembly, which could cause motion between the wing and the fuselage and degrade the structural integrity of the wing attachment to the fuselage. This could lead to wing separation and loss of control of the airplane.

Compliance

(e) To address this problem, you must do the following:

Actions | Compliance | Procedures
(1) Inspect to determine whether the spigot bearing, part number (P/N) MS14104-16, is positioned flush inside the spigot fitting assembly and not protruding outside of the fitting assembly | Within 50 hours time-in-service (TIS) after October 13, 2006 (the effective date of this AD), and repetitively inspect thereafter every 50 hours TIS until the installation in paragraph (e)(2) of this AD is done | Follow Raytheon Aircraft Company Mandatory Service Bulletin SB 53-3765, issued: November, 2005.
(2) Install the spigot bearing retainer kit, P/N 390-4304-0001. This installation terminates the inspection requirements in paragraph (e)(1) of this AD | At whichever of the following occurs first, unless already done: (i) Before further flight after any inspection required by this AD where the spigot bearing, P/N MS14104-16, is found not to be flush with the spigot fitting assembly; or (ii) Within 200 hours TIS or one calendar year October 13, 2006 (the effective date of this AD), whichever occurs first | Follow Raytheon Aircraft Company Mandatory Service Bulletin SB 53-3765, issued: November, 2005.

Alternative Methods of Compliance (AMOCs)

(f) The Manager, Wichita Aircraft Certification Office (ACO), FAA, ATTN: David Ostrodka, Senior Aerospace Engineer, Wichita ACO, Airframe and Services Branch, ACE-118W, 1801 Airport Road, Wichita, Kansas 67209; telephone: (316) 946-4129; facsimile: (316) 946-4107, has the authority to approve AMOCs for this AD, if requested using the procedures found in 14 CFR 39.19.

Related Information

(g) None.

Material Incorporated by Reference

(h) You must do the actions required by this AD following the instructions in Raytheon Aircraft Company Mandatory Service Bulletin SB 53-3765, issued: November, 2005. The Director of the Federal Register approved the incorporation by reference of this service bulletin in accordance with 5 U.S.C. 552(a) and 1 CFR part 51. To get a copy of this service information, contact Raytheon Aircraft Company, 9709 East Central, Wichita, Kansas 67201. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2006-24640; Directorate Identifier 2006-CE-26-AD.

Issued in Kansas City, Missouri, on August 30, 2006.
James E. Jackson,
Acting Manager, Small Airplane Directorate, Aircraft Certification Service.

[FR Doc. E6-14781 Filed 9-7-06; 8:45 am]

BILLING CODE 4910-13-P